DEPARTMENT OF THE INTERIOR

Fish and Wildlife Service

Issuance of Permit for Marine Mammals

On April 3, 2001, a notice was published in the Federal Register, Vol. 66, No. 64, Page 17728, that an application had been filed with the Fish and Wildlife Service by Stanley Arnt, Watervliet, MI, for a permit (PRT-040317) to import one polar bear (Ursus maritimus) trophy taken from the Lancaster Sound population, Canada for personal use.

Notice is hereby given that on May 17, 2001, as authorized by the provisions of the Marine Mammal Protection Act of 1972, as amended (16 U.S.C. 1361 et seq.) the Fish and Wildlife Service authorized the requested permit subject to certain conditions set forth therein.

On March 13, 2001, a notice was published in the Federal Register, Vol. 66, No. 49, Page 14593, that an application had been filed with the Fish and Wildlife Service by Robert Seidelman, Montgomery, IL, for a permit (PRT-038861) to import one polar bear (Ursus maritimus) trophy taken from the Northern Beaufort Sea population, Canada for personal use.

Notice is hereby given that on May 17, 2001, as authorized by the provisions of the Marine Mammal Protection Act of 1972, as amended (16 U.S.C. 1361 et seq.) the Fish and Wildlife Service authorized the requested permit subject to certain conditions set forth therein.

Documents and other information submitted for these applications are available for review by any party who submits a written request to the U.S. Fish and Wildlife Service, Division of Management Authority, 4401 North Fairfax Drive, Room 700, Arlington, Virginia 22203. Phone (703) 358-2104 or Fax (703) 358-2281.

Dated: May 25, 2001.
Monica Farris,
Senior Biologist, Branch of Permits, Division of Management Authority.

[FR Doc. 01-14187 Filed 6-5-01; 8:45 am]

BILLING CODE 4310-55-U